DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than November 1, 2004.

ADDRESSES: Submit written comments on any or all of the following proposed activities by mail to either: Mr. Robert Brogan, Office of Safety, Planning and Evaluation Division, RRS-21, Federal Railroad Administration, 1120 Vermont Ave., NW., Mail Stop 17, Washington, DC 20590, or Ms. Debra Steward, Office of Information Technology and Productivity Improvement, RAD-20, Federal Railroad Administration, 1120 Vermont Ave., NW., Mail Stop 35, Washington, DC 20590. Commenters requesting FRA to acknowledge receipt of their respective comments must include a self-addressed stamped postcard stating, “Comments on OMB control number 2130-NEW.” Alternatively, comments may be transmitted via facsimile to (202) 493-6230 or (202) 493-6170, or e-mail to Mr. Brogan at robert.brogan@fra.dot.gov, or to Ms. Steward at debra.steward@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Debra Steward, Office of Information Technology and Productivity Improvement, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Pub. L. No. 104-13, § 2, 109 Stat. 163 (1995) (codified as revised at 44 U.S.C. §§ 3501-3520), and its implementing regulations, 5 CFR Part 1320, require Federal agencies to provide 60-days notice to the public for comment on information collection activities before seeking approval for reinstatement or renewal by OMB. 44 U.S.C. § 3506(c)(2)(A); 5 CFR §§ 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. § 3506(c)(2)(A)(i)-(iv); 5 CFR § 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. § 3501.

Below is a brief summary of proposed new information collection activities that FRA will submit for clearance by OMB as required under the PRA:

Title: Safety Appliance Concern Recommendation Report; Guidance Checklist Forms.

OMB Control Number: 2130-NEW.

Abstract: In an ongoing effort to conduct more thorough and more effective inspections of railroad freight equipment and to further enhance safe rail operations, FRA has developed a safety concern recommendation report form, and a group of guidance checklist forms that will facilitate railroad, rail car owner, and rail equipment manufacturer compliance with agency Railroad Safety Appliance Standards regulations. In lieu of completing an official inspection report (Form FRA F 6180.96), which takes subject railroad equipment out of service and disrupts rail operations, proposed new Form FRA F 6180.4a will enable Federal and State safety inspectors to report to agency headquarters systemic or other safety concerns. FRA headquarters safety specialists can then contact railroads, car owners, and equipment manufacturers to address the reported issue(s) and institute necessary corrective action(s) in a timely fashion without unnecessarily having to take affected rail equipment out of service, unless deemed defective. Proposed forms FRA F 6180.4(b)-(m) will be used in conjunction with the Special Inspection of Safety Appliance Equipment form (Form FRA F 6180.4) to assist Federal Motive, Power, and Equipment (MP&E) field inspectors in ensuring that critical sections of 49 CFR Part 231 (Railroad Safety Appliance Standards), pertaining to various types of freight equipment, are complied with through use of a check-off list. By simplifying their demanding work, check-off lists for 12 essential sections of Part 231 will ensure that FRA MP&E field personnel completely and thoroughly inspect each type of freight car for compliance with its corresponding section in Part 231. The proposed Guidance Checklist forms may later be used by state field inspectors as well. FRA believes that the proposed collection of information will result in improved construction of newly designed freight cars and improved field inspections of all freight cars currently in use. This, in turn, will serve to reduce the number of accidents/incidents and corresponding injuries and fatalities that occur every year due to unsafe or defective equipment that was not promptly repaired/replaced.

Form Number(s): FRA F 6180.4(a)-(m).

Affected Public: Businesses.

Reporting Burden:

Form number | Respondent universe | Total annual responses (forms) | Average time per response (minutes) | Total annual burden hours | Total annual burden cost
FRA F 6180.4a—MP&E Safety Concern and Recommendation Report | 100 Fed'l & State Inspectors | 50 | 60 | 50 | $2,450
FRA F 6180.4b—Check List Sec. 231.1 | 100 Fed'l & State Inspectors | 20 | 60 | 20 | 980
FRA F 100 6180.4c—Check List Sec. 231.2 | 100 Fed'l & State Inspectors | 20 | 60 | 20 | 980
FRA F 6180.4d—Check List Sec. 231.3 | 100 Fed'l & State Inspectors | 10 | 60 | 10 | 490
FRA F 6180.4e—Check List Sec. 231.4 | 100 Fed'l & State Inspectors | 5 | 60 | 5 | 245
FRA F 6180.4f—Check List Sec. 231.5 | 100 Fed'l & State Inspectors | 5 | 60 | 5 | 245
FRA F 6180.4g—Check List Sec. 231.6 | 100 Fed'l & State Inspectors | 30 | 60 | 30 | 1,470
FRA F 6180.4h—Check List 231.7 | 100 Fed'l & State Inspectors | 5 | 60 | 5 | 245
FRA F 6180.4i—Check List Sec. 231.8 | 100 Fed'l & State Inspectors | 5 | 60 | 5 | 245
FRA F 6180.4j—Check List Sec. 231.9 | 100 Fed'l & State Inspectors | 5 | 60 | 5 | 245
FRA F 6180.4k—Check List Sec. 231.21 | 100 Fed'l & State Inspectors | 50 | 60 | 50 | 2,450
FRA F 6180.4l—Check List Sec. 231.27 | 100 Fed'l & State Inspectors | 25 | 60 | 25 | 1,225
FRA F 6180.4m—Check List Sec. 231.28 | 100 Fed'l & State Inspectors | 10 | 60 | 10 | 490

Respondent Universe: Federal and State Safety Inspectors.

Frequency of Submission: On occasion.

Total Responses: 240 Forms.

Estimated Total Annual Burden: 240 hours.

Status: Regular Review.

Pursuant to 44 U.S.C. 3507(a) and 5 CFR §§ 1320.5(b), 1320.8(b)(3)(vi), FRA informs all interested parties that it may not conduct or sponsor, and a respondent is not required to respond to, a collection of information unless it displays a currently valid OMB control number.

Authority: 44 U.S.C. §§ 3501-3520.

Issued in Washington, DC on August 27, 2004.
Kathy A. Weiner,
Director, Office of Information Technology and Support Systems, Federal Railroad Administration.

[FR Doc. 04-20069 Filed 9-1-04; 8:45 am]

BILLING CODE 4910-06-P